DEPARTMENT OF TRANSPORTATION

National Highway Traffic Safety Administration

[U.S. DOT Docket No. NHTSA-2018-0057]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes the collection of information for which NHTSA intends to seek OMB approval.

DATES: Comments must be received on or before July 17, 2018.

ADDRESSES: You may submit comments identified by DOT Docket Number NHTSA-2018-0057 using any of the following methods:

Electronic submissions: Go to http://www.regulations.gov. Follow the online instructions for submitting comments.

Mail: Docket Management Facility, M-30, U.S. Department of Transportation, 1200 New Jersey Avenue SE, West Building Ground Floor, Room W12-140, Washington, DC 20590.

Hand Delivery: West Building Ground Floor, Room W12-140, 1200 New Jersey Avenue SE, Washington, DC, between 9 a.m. and 5 p.m., Monday through Friday, except Federal holidays.

Fax: 1-202-493-2251.

Instructions: Each submission must include the agency name and the docket number for this Notice. Note that all comments received will be posted without change to http://www.regulations.gov, including any personal information provided.

FOR FURTHER INFORMATION CONTACT: Dr. Kathy Sifrit, Contracting Officer's Representative, Office of Behavioral Safety Research (NPD-320), National Highway Traffic Safety Administration, 1200 New Jersey Avenue SE, Washington, DC 20590. Dr. Sifrit's phone number is 202-366-0868, and her email address is kathy.sifrit@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Hazard Perception and Distracted Driving Training Intervention for Teens.

Type of Request: New information collection.

OMB Clearance Number: None.

Requested Expiration Date of Approval: Three years from date of approval.

Summary of the Collection of Information: The National Highway Traffic Safety Administration (NHTSA) proposes to collect information from licensed teen drivers for a one-time voluntary study to evaluate Risk Awareness and Perception Training (RAPT), a hazard perception and distracted driving training intervention for teens to improve driving safety. NHTSA proposes to collect information from newly-licensed teen drivers to determine (1) their eligibility to participate in a study to evaluate RAPT hazard perception training; (2) their hazard perception performance before and after they complete RAPT or placebo training, and again six months after training; and (3) their driving exposure via driving logs to account for potential differences across participants. In addition, participants will agree to allow researchers to access their crash and citation records for the first six months of driving to support analyses of the effects of RAPT training on crash and citation rates.

These data will be analyzed to determine (1) whether, during the first six months of driving, new drivers who complete RAPT training have fewer crashes or traffic violations on their driving records than comparison group members who receive placebo training, (2) when they do crash, is there a difference in severity and at-fault between drivers who took RAPT training versus those who received placebo training, (3) is there a difference in driving exposure between those who did and did not crash, and (4) is there an interaction between sex and training group as measured by crashes or crash type.

NHTSA will provide recruiting letters to an estimated 15,000 newly licensed drivers ages 16 through 19. Participation will be voluntary and solicited through the distribution of recruiting letters at Department of Motor Vehicle locations (DMVs) when new drivers obtain their license. The letter will contain the information a teen and their guardian(s) need to make an informed decision about participating in this study. Consent will be obtained through an informed consent agreement approved by an Institutional Review Board (IRB).

Consented study participants will be randomly assigned within age (16, 17, 18 or 19 years) and sex categories to either participation in the RAPT or the placebo condition. Participants in the RAPT condition will complete the training protocol, which will include questions about their driving exposure and crash/offence history in addition to hazard recognition training. Those in the placebo condition will view a vehicle maintenance video and respond to the same driving exposure and crash/offence history questions. The RAPT training protocol is a computerized training tool. Data regarding hazard perception skills before and after the training will be captured as part of the computerized program. Participants will also be invited to complete a six month follow up test to see whether they retained the RAPT training. The initial letter invitation will include a two-dollar incentive. Participants who complete the first test will receive five dollars, and those who complete the six month follow up will receive an additional ten dollars. A subsample of participants will also be asked to complete a trip log to record driving exposure, for which they will receive another ten dollars.

Background: The mission of the National Highway Traffic Safety Administration (NHTSA) is to save lives, prevent injuries and reduce economic costs due to motor vehicle crashes. In support of this mission, NHTSA's Office of Behavioral Safety Research studies behaviors and attitudes in highway safety, focusing on drivers, passengers, pedestrians, and motorcyclists, and it uses the results to develop and refine countermeasures to deter unsafe behaviors and promote safe alternatives. The safety of teen drivers is of particular concern. In 2016 there were 1,908 young drivers 15 to 20 years old who died in motor vehicle crashes. Nine percent of all drivers involved in fatal crashes in 2016 were 15 to 20 years old, but these drivers only accounted for 5.4 percent of the total number of licensed drivers. In addition, motor vehicle traffic crashes were the leading cause of death for youth (16 to 20) in 2015.

Description of the Need for the Information and Proposed Use of the Information: Exposure-based analyses of crash risk have consistently shown that teens have an elevated crash risk. Further, crash risk studies have identified that the lack of skills among teen drivers, notably a limited ability to identify unexpected hazards on the road, is one reason teen driver crash rates are so high. Previous evaluations of RAPT have shown promise in terms of a training effect among teens. A 2017 NHTSA study showed RAPT training using software similar to that proposed for the current study improved hazard detection in on-road driving (DOT HS 812 379). A 2016 NHTSA evaluation of the effects of RAPT on teen drivers' crashes in California, however, produced mixed results (DOT HS 812 235). Crash analyses did not show an overall main effect of the program but there was a significant effect for males. Trained males had a 24% lower crash rate relative to the male comparison group. There was no significant difference in females' crash rates. While the results from the California study were encouraging, promotion of this intervention requires additional evidence of effectiveness in reducing crash risk.

Data Collection Plan: Respondents will be drivers aged 16 to 19 who received their provisional or unrestricted licenses (first licenses) within the previous two weeks. Participants will be recruited within two weeks of obtaining this license. Exclusion criteria are: Driver received a provisional or first license more than two weeks ago; driver is newly licensed but 20 years old or older; driver's parents do not consent to inclusion of child in the study; driver is not able to communicate in English; driver is not available for six-month follow-up retest; driver is not planning on driving at least one trip per week; driver has already received other hazard perception training. A roughly equal distribution of males and females will be recruited within each age cohort. Overall, 15,000 teens will be invited to participate in the first jurisdiction; we expect 7,500 to agree to participate. Of those, half will be randomly assigned to the treatment condition (RAPT training) and the other half to the placebo condition (vehicle maintenance video). To bolster the evaluation research design, we will invite another 5,000 teens from a second jurisdiction to participate in the placebo condition, and expect half of this group to agree. This “external” evaluation component will help rule out alternative explanations in outcomes that are not associated with the RAPT training.

The initial invitation letter will be presented to 15,000 teens in the first jurisdiction and 5,000 teens in the second. Teens and their guardian(s) are expected to take an average of 2 minutes each to review the letter, including study inclusion criteria, for a total of 2,000 hours (up to three respondents reviewing each letter). We expect to recruit 10,000 participants (half of the 20,000 invitees). Teens who agree to participate in the study are expected to spend 45 minutes reading and signing the informed consent and completing the data collection and training protocol for a total of 7,500 hours. A subsample of 2,000 (of the 10,000) participants will also be asked to complete a one-week trip log. Completing the trip log will take an estimated 5 minutes per day or 35 minutes per week for a total of 1,167 hours. Finally, 7,500 (of the 10,000) participants will be asked to complete the six-month follow-up test lasting 15 minutes for a total of 1,875 hours.

Estimate of the Total Annual Reporting and Record Keeping Burden Resulting from the Collection of Information: The total estimated burden for recruitment (2,000 hours), the initial training and data collection (7,500 hours), the trip log (1,167 hours) and the follow-up data collection (1,875) is 12,542 hours.

Authority: 44 U.S.C. Section 3506(c)(2)(A).

Issued in Washington, DC on May 15, 2018.
Jeff Michael,
Associate Administrator, Research and Program Development.

[FR Doc. 2018-10633 Filed 5-17-18; 8:45 am]

BILLING CODE 4910-59-P